SOCIAL SECURITY ADMINISTRATION

20 CFR Parts 404 and 416

[Docket No. SSA-2013-0044]

RIN 0960-AH63

Rules of Conduct and Standards of Responsibility for Appointed Representatives; Correction

AGENCY: Social Security Administration.

ACTION: Correcting amendments.

SUMMARY: On July 2, 2018, we published final rules in the Federal Register revising our rules of conduct and standards of responsibility for representatives. Those final rules reduced the amount of time to request Appeals Council review of a hearing officer's decision from 30 days to 14 business days, but we inadvertently failed to make the same change in the parallel sections of the CFR, which details when the Appeals Council will dismiss a request for review. This document corrects the omitted sections and makes our regulations consistent.

DATES: Effective September 30, 2019.

FOR FURTHER INFORMATION CONTACT: Nancy Chung, Office of Appellate Operations, Social Security Administration, 5107 Leesburg Pike, Falls Church, VA 22041, (703) 605-7100. For information on eligibility or filing for benefits, call our national toll-free number, 1-800-772-1213 or TTY 1-800-325-0778, or visit our internet site, Social Security Online, at http://www.socialsecurity.gov.

SUPPLEMENTARY INFORMATION: We published final rule, Rules of Conduct and Standards of Responsibility for Appointed Representatives, in the Federal Register on July 2, 2018. (83 FR 30849). Among other changes, the final rules reduced the amount of time to request an Appeals Council review of a hearing officer's decision from 30 days to 14 business days (§§ 404.1775 and 416.1575).¹

¹ 83 FR 30849, 30856, 30859 (2018).

We inadvertently failed to make correlated and necessary, changes in the sections describing when the Appeals Council will dismiss such a request for review of a hearing officer's decision. Specifically, paragraph (c) of sections 404.1795 and 416.1595 currently reference the prior “30-day time period” instead of the new 14 business day time period. This correction revises the incorrect time period identified in 404.1795 and 416.1595 to match the correct time period provided in 404.1775(b) and 416.1575(b).

(Catalog of Federal Domestic Assistance Program Nos. 96.001, Social Security—Disability Insurance; 96.002, Social Security—Retirement Insurance; and 96.004, Social Security—Survivors Insurance)

List of Subjects

20 CFR Part 404

Administrative practice and procedure, Blind, Disability benefits, Old-Age, Survivors, and Disability Insurance, Reporting and recordkeeping requirements, Social Security.

20 CFR Part 416

Administrative practice and procedure, Reporting and recordkeeping requirements, Supplemental Security Income (SSI).

Andrew Saul,
Commissioner of Social Security.

Accordingly, 20 CFR part 404, subpart R, and 20 CFR part 416, subpart O are corrected by making the following amendments:

PART 404—FEDERAL OLD-AGE, SURVIVORS AND DISABILITY INSURANCE (1950-)

Subpart R—Representation of Parties

1. The authority citation for subpart R of part 404 continues to read as follows:

Authority: Secs. 205(a), 206, 702(a)(5), and 1127 of the Social Security Act (42 U.S.C. 405(a), 406, 902(a)(5), and 1320a-6).

2. Amend § 404.1795 by revising paragraph (c) to read as follows:

§ 404.1795 When the Appeals Council will dismiss a request for review.

* * * * *

(c) Request for review not timely filed. The Appeals Council will dismiss a request for review if a party failed to file a request for review within the 14 business day time period set forth in § 404.1775(b) and the Appeals Council does not extend the time for good cause.

PART 416—SUPPLEMENTAL SECURITY INCOME FOR THE AGED, BLIND, AND DISABLED

Subpart O—Representation of Parties

3. The authority citation for subpart O of part 416 continues to read as follows:

Authority: Secs. 702(a)(5), 1127, and 1631(d) of the Social Security Act (42 U.S.C. 902(a)(5), 1320a-6, and 1383(d)).

4. Amend § 416.1595 by revising paragraph (c) to read as follows:

§ 416.1595 When the Appeals Council will dismiss a request for review.

* * * * *

(c) Request for review not timely filed. The Appeals Council will dismiss a request for review if a party failed to file a request for review within the 14 business day time period set forth in § 416.1575(b) and the Appeals Council does not extend the time for good cause.

[FR Doc. 2019-20446 Filed 9-27-19; 8:45 am]

BILLING CODE 4191-02-P